GENERAL SERVICES ADMINISTRATION

[OMB Control No. 3090-0290; Docket No. 2023-0001; Sequence No. 4]

Information Collection; System for Award Management Registration Requirements for Financial Assistance Recipients

AGENCY: Office of Systems Management, General Services Administration (GSA).

ACTION: Notice.

SUMMARY: Under the provisions of the Paperwork Reduction Act of 1995, the Regulatory Secretariat Division invites the public to comment on an extension to an existing information collection requirement regarding the pre-award registration requirements for Prime Financial Assistance Recipients.

DATES: Submit comments on or before November 20, 2023.

ADDRESSES: Submit comments identified by Information Collection “3090-0290, System for Award Management Registration Requirements for Financial Assistance Recipients” via http://www.regulations.gov. Submit comments via the Federal eRulemaking portal by searching OMB control number 3090-0290. Select the link “Comment Now” that corresponds with Information Collection “3090-0290, System for Award Management Registration Requirements for Financial Assistance Recipients”. Follow the instructions provided on the screen. Please include your name, company name (if any), and Information Collection “3090-0290, System for Award Management Registration Requirements for Financial Assistance Recipients” on your attached document.

Instructions: Please submit comments only and cite Information Collection “3090-0290, System for Award Management Registration Requirements for Financial Assistance Recipients”, in all correspondence related to this collection. Comments received generally will be posted without change to regulations.gov, including any personal and/or business confidential information provided. To confirm receipt of your comment(s), please check regulations.gov, approximately three days after submission to verify posting.

FOR FURTHER INFORMATION CONTACT: Ms. Salomeh Ghorbani, Director, IAE Outreach and Stakeholder Engagement Division, at telephone number 703-605-3467 or IAE_Admin@gsa.gov.

SUPPLEMENTARY INFORMATION:

A. Purpose

This information collection requires applicants and recipients of Federal financial assistance, unless the applicant is an individual or Federal awarding agency that is excepted from those requirements, to register in SAM and maintain an active SAM registration with current information at all times during which they have an active Federal award or an application or plan under consideration by an agency pursuant to 2 CFR subtitle A, chapter I, and part 25 (75 FR 55673 as amended at 79 FR 75879). This facilitates prime awardee reporting of sub-award and executive compensation data pursuant to the Federal Funding Accountability and Transparency Act (Pub. L. 109-282, as amended by section 6202(a) of Pub. L. 110-252). This information collection requires that all prime financial assistance awardees, subject to reporting under the Transparency Act, register and maintain their registration in SAM.gov.

This information collection was amended to meet a statutory requirement of the National Defense Authorization Act (NDAA) of FY 2013. The NDAA of 2013 requires that the Federal Awardee Performance and Integrity Information System (FAPIIS) (currently located at SAM.gov) include information on a non-Federal entity's parent, subsidiary, or successor entities. Additionally, the information collection was amended to increase transparency regarding Federal spending and to support implementation of the Digital Accountability and Transparency Act of 2014 (DATA ACT).

OMB expanded the requirement to register in SAM beyond grants, cooperative agreements, and contracts, to entities that receive financial assistance such as loans, insurance, and direct appropriations. This information collection requirement (published in the Federal Register at 85 FR 49506 on August 13, 2020) is included in OMB's revision to guidance in 2 CFR subtitle A, chapter I, and parts 25, 170, and 200, effective June 12, 2023.

B. Annual Reporting Burden

Respondents: 211,959.

Responses per Respondent: 1.

Total annual responses: 211,959.

Hours per Response: 2.5.

Total Burden Hours: 529,898.

C. Public Comments

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB) at GSARegSec@gsa.gov. Please cite OMB Control No. 3090-0290, System for Award Management Registration Requirements for Financial Assistance Recipients, in all correspondence.

Lesley Briante,
Acting Deputy Chief Information Officer.

[FR Doc. 2023-20386 Filed 9-19-23; 8:45 am]

BILLING CODE 6820-WY-P